DEPARTMENT OF THE INTERIOR

National Park Service

Notice of Inventory Completion: Oregon State University Department of Anthropology, Corvallis, OR

AGENCY: National Park Service, Interior.

ACTION: Notice.

Notice is here given in accordance with the Native American Graves Protection and Repatriation Act (NAGPRA), 25 U.S.C. 3003, of the completion of an inventory of human remains and associated funerary objects in the control of Oregon State University Department of Anthropology, Corvallis, OR. The human remains and associated funerary objects were removed from Squaw Valley, Placer or Plumas County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Oregon State University Department of Anthropology professional staff in consultation with representatives of the Washoe Tribe of Nevada & California (Carson Colony, Dresslerville Colony, Woodfords Community, Stewart Community, & Washoe Ranches).

On October 23, 1964, human remains representing a minimum of one individual were removed from a cave in Squaw Valley, Plumas or Placer County, CA, by an individual identified in museum records simply as “Johnson.” The date and circumstances of accession by Oregon State University Department of Anthropology are unknown. No known individual was identified. The four associated funerary objects are three basalt projectile points and one mustard chert projectile point.

The Washoe Tribe of Nevada & California occupied the Squaw Valley area, including Placer and Plumas Counties, CA, as part of their traditional territory. They traditionally carried out funerary practices that included placing projectile points of basalt and mustard chert with the deceased at the time of interment.

Officials of the Oregon State University Department of Anthropology have determined that, pursuant to 25 U.S.C. 3001 (9-10), the human remains described above represent the physical remains of one individual of Native American ancestry. Officials of the Oregon State University Department of Anthropology also have determined that, pursuant to 25 U.S.C. 3001 (3)(A), the four objects described above are reasonably believed to have been placed with or near individual human remains at the time of death or later as part of the death rite or ceremony. Lastly, officials of the Oregon State University Department of Anthropology have determined that, pursuant to 25 U.S.C. 3001 (2), there is a relationship of shared group identity that can be reasonably traced between the Native American human remains and associated funerary objects and the Washoe Tribe of Nevada & California.

Representatives of any other Indian tribe that believes itself to be culturally affiliated with the human remains and associated funerary objects should contact Dr. David McMurray, Oregon State University Department of Anthropology, 238 Waldo Hall, Corvallis, OR 97331, telephone (541) 737-4515, before March 26, 2008. Repatriation of the human remains and associated funerary objects to the Washoe Tribe of Nevada & California may proceed after that date if no additional claimants come forward.

Oregon State University Department of Anthropology is responsible for notifying Big Sandy Rancheria of Mono Indians of California; Cold Springs Rancheria of Mono Indians of California; Fort McDermitt Paiute and Shoshone Tribes of the Fort McDermitt Indian Reservation, Nevada and Oregon; Greenville Rancheria of Maidu Indians of California; Paiute-Shoshone Tribe of the Fallon Reservation and Colony, Nevada; Pyramid Lake Paiute Tribe of the Pyramid Lake Reservation, Nevada; Reno-Sparks Indian Colony, Nevada; Table Mountain Rancheria of California; United Auburn Indian Community of the Auburn Rancheria of California; Walker River Paiute Tribe of the Walker River Reservation, Nevada; Washoe Tribe of Nevada & California; and Yerington Paiute Tribe of the Yerington Colony & Campbell Ranch, Nevada that this notice has been published.

Dated: January 24, 2008
Sherry Hutt,
Manager, National NAGPRA Program.

[FR Doc. E8-3448 Filed 2-22-08; 8:45 am]

BILLING CODE 4312-50-S